DEPARTMENT OF HOMELAND SECURITY

Coast Guard

33 CFR Parts 100 and 165

[Docket No. USCG-2008-0384]

Special Local Regulations; Safety Zones; Recurring Events in Captain of the Port Long Island Sound Zone

AGENCY: Coast Guard, DHS.

ACTION: Notice of enforcement of regulation.

SUMMARY: The Coast Guard will enforce seventeen annual fireworks display safety zones and one regatta event special local regulation in the Sector Long Island Sound area of responsibility on various dates and times listed in the tables below. This action is necessary to provide for the safety of life on navigable waterways during these fireworks displays and regatta event. During the enforcement period, no person or vessel may enter the safety zone without permission of the Captain of the Port (COTP) Sector Long Island Sound or designated representative.

DATES: The regulations in 33 CFR 100.100 and 33 CFR 165.151 will be enforced between June 9, 2013 and September 1, 2013.

FOR FURTHER INFORMATION CONTACT: If you have questions on this notice, call or email Petty Officer Scott Baumgartner, Waterways Management Division, U.S. Coast Guard Sector Long Island Sound; telephone 203-468-4559, email Scott.A.Baumgartner@uscg.mil.

SUPPLEMENTARY INFORMATION: The Coast Guard will enforce the special local regulation listed 33 CFR 100.100 and safety zones listed in 33 CFR 165.151 on the specified dates and times as indicated in the tables below. If the event is delayed by inclement weather, the regulation will be enforced on the rain date indicated in the tables. These regulations were published in the Federal Register on February 10, 2012 (77 FR 6954).

Table to § 100.100
1.1 Harvard-Yale Regatta, Thames River, New London, CT | • Event type: Boat Race.
| • Date: Sunday, June 9, 2013 from 8:15 a.m. until 5:15 p.m.
| • Rain Date: Monday, June 10, 2013 from 8:15 a.m. until 12:15 p.m.
| • Location: All waters of the Thames River at New London, Connecticut, between the Penn Central Draw Bridge 41°21′46.94″ N 072°05′14.46″ W to Bartlett Cove 41°25′35.90″ N 072°5′42.89″ W (NAD 83).

Table 1 to § 165.151
6.1 Barnum Festival Fireworks | • Date: June 28, 2013.
| • Rain date: June 29, 2013.
| • Time: 9 p.m. to 10:30 p.m.
| • Location: Waters of Bridgeport Harbor, Bridgeport, CT in approximate position 41°9′04″ N, 073°12′49″ W (NAD 83).
6.2 Town of Branford Fireworks | • Date: June 22, 2013.
| • Rain date: June 23, 2013.
| • Time: 9 p.m. to 10:30 p.m.
| • Location: Waters of Branford Harbor, Branford, CT in approximate position, 41°15′30″ N, 072°49′22″ W (NAD 83).
7.1 Point O'Woods Fire Company Summer Fireworks | • Date: July 4, 2013.
| • Rain date: July 5, 2013.
| • Time: 9 p.m. to 10:30 p.m.
| • Location: Waters of the Great South Bay, Point O'Woods, NY in approximate position 40°39′18.57″ N, 073°08′05.73″ W (NAD 83).
7.4 Norwalk Fireworks | • Date: July 3, 2013.
| • Rain date: July 5, 2013.
| • Time: 8:30 p.m. to 10:30 p.m.
| • Location: Waters off Calf Pasture Beach, Norwalk, CT in approximate position, 41°04′50″ N, 073°23′22″ W (NAD 83).
7.5 Lawrence Beach Club Fireworks | • Date: July 3, 2013.
| • Rain date: July 5, 2013.
| • Time: 9 p.m. to 10:30 p.m.
| • Location: Waters of the Atlantic Ocean off Lawrence Beach Club, Atlantic Beach, NY in approximate position 40°34′42.65″ N, 073°42′56.02″ W (NAD 83).
7.6 Sag Harbor Fireworks | • Date: July 6, 2013.
| • Rain date: July 7, 2013.
| • Time: 9 p.m. to 10:30 p.m.
| • Location: Waters of Sag Harbor Bay off Havens Beach, Sag Harbor, NY in approximate position 41°00′26″ N, 072°17′09″ W (NAD 83).
7.7 South Hampton Fresh Air Home Fireworks | • Date: July 5, 2013.
| • Rain date: July 7, 2013.
| • Time: 8:45 p.m. to 10:00 p.m.
| • Location: Waters of Shinnecock bay, Southampton, NY in approximate positions, 40°51′48″ N, 072°26′30″ W (NAD 83).
7.8 Westport Police Athletic league Fireworks | • Date: July 3, 2013.
| • Rain date: July 5, 2013.
| • Time: 8:30 p.m. to 10:00 p.m.
| • Location: Waters off Compo Beach, Westport, CT in approximate position, 41°06′15″ N, 073°20′57″ W (NAD 83).
7.11 City of Norwich July Fireworks | • Date: July 5, 2013.
| • Rain date: July 6, 2013.
| • Time: 9 p.m. to 10:30 p.m.
| • Location: Waters of the Thames River, Norwich, CT in approximate position, 41°31′16.84″ N, 072°04′43.33″ W (NAD 83).
7.22 Mason's Island Yacht Club Fireworks | • Date: July 6, 2013.
| • Rain date: July 7, 2013.
| • Time: 8:30 p.m. to 10:00 p.m.
| • Location: Waters of Fisher's Island Sound, Noank, CT in approximate position 41°19′30.61″ N, 071°57′48.22″ W (NAD 83).
7.24 Riverfest Fireworks | • Date: July 6, 2013.
| • Rain date: July 7, 2013.
| • Time: 8 p.m. to 11:00 p.m.
| • Location: Waters of the Connecticut River, Hartford, CT in approximate positions, 41°45′39.93″ N, 072°39′49.14″ W (NAD 83).
7.28 City of Long Beach Fireworks | • Date: July 12, 2013.
| • Rain date: July 13, 2013.
| • Time: 9 p.m. to 10:00 p.m.
| • Location: Waters off Riverside Blvd, City of Long Beach, NY in approximate position 40°34′38.77″ N, 073°39′41.32″ W (NAD 83).
7.30 Mashantucket Pequot Fireworks | • Date: July 13, 2013.
| • Rain date: July 14, 2013.
| • Time: 8:30 p.m. to 10:30 p.m.
| • Location: Waters of the Thames River New London, CT in approximate positions Barge 1, 41°21′03.03″ N, 072°5′24.5″ W Barge 2, 41°20′51.75″ N, 072°5′18.90″ W (NAD 83).
7.31 Shelter Island Fireworks | • Date: July 6, 2013.
| • Rain date: July 7, 2013.
| • Time: 8:30 p.m. to 10:00 p.m.
| • Location: Waters of Gardiner Bay, Shelter Island, NY in approximate position 41°04′39.11″ N, 072°22′01.07″ W (NAD 83).
7.35 Groton Long Point Yacht Club Fireworks | • Date: July 20, 2013.
| • Rain date: July 21, 2013.
| • Time: 9 p.m. to 10:30 p.m.
| • Location: Waters of Long Island Sound, Groton, CT in approximate position 41°18′05″ N, 072°02′08″ W (NAD 83).
8.6 Town of Babylon Fireworks | • Date: August 24, 2013.
| • Rain date: August 25, 2013.
| • Time: 8:30 p.m. to 10:00 p.m.
| • Location: Waters off of Cedar Beach Town Park, Babylon, NY in approximate position 40°37′53″ N, 073°20′12″ W (NAD 83).
9.1 East Hampton Fire Department Fireworks | • Date: August 31, 2013.
| • Rain date: September 1, 2013.
| • Time: 8:45 p.m. to 10:00 p.m.
| • Location: Waters off Main Beach, East Hampton, NY in approximate position 40°56′40.28″ N, 072°11′21.26″ W (NAD 83).

Under the provisions of 33 CFR 100.100 & 33 CFR 165.151, The fireworks displays, and regatta event listed above are established as safety zones or special local regulation. During these enforcement periods, persons and vessels are prohibited from entering into, transiting through, mooring, or anchoring within the safety zones or special local regulation unless they receive permission from the COTP or designated representative.

This notice is issued under authority of 33 CFR 100, 33 CFR 165 and 5 U.S.C. 552(a). In addition to this notice in the Federal Register, the Coast Guard will provide the maritime community with advance notification of this enforcement period via the Local Notice to Mariners or marine information broadcasts. If the COTP determines that a regulated area need not be enforced for the full duration stated in this notice, a Broadcast Notice to Mariners may be used to grant general permission to enter the regulated area.

Dated: May 24, 2013.
J.M. Vojvodich,
Captain, U.S. Coast Guard, Captain of the Port Sector Long Island Sound.

[FR Doc. 2013-13667 Filed 6-7-13; 8:45 am]

BILLING CODE 9110-04-P